DEPARTMENT OF TRANSPORTATION

Federal Aviation Administration

14 CFR Part 39

[Docket No. FAA-2016-7262; Directorate Identifier 2015-NM-079-AD; Amendment 39-18912; AD 2017-11-13]

RIN 2120-AA64

Airworthiness Directives; Airbus Airplanes

AGENCY: Federal Aviation Administration (FAA), Department of Transportation (DOT).

ACTION: Final rule.

SUMMARY: We are superseding Airworthiness Directive (AD) 98-13-14, for certain Airbus Model A320-211, -212, and -231 airplanes. AD 98-13-14 required repetitive inspections of certain fastener holes of the aft fuselage, and corrective action if necessary. This new AD continues to require the actions in AD 98-13-14, with revised inspection compliance times. This AD was prompted by identification of cracks in the fastener holes of the former junction of the aft fuselage, which occurred during a fatigue test; and a determination that certain compliance times specified in AD 98-13-14 must be reduced. We are issuing this AD to address the unsafe condition on these products.

DATES: This AD is effective July 11, 2017.

The Director of the Federal Register approved the incorporation by reference of certain publications listed in this AD as of July 11, 2017.

The Director of the Federal Register approved the incorporation by reference of certain other publications listed in this AD as of July 30, 1998 (63 FR 34556, June 25, 1998).

ADDRESSES: For service information identified in this final rule, contact Airbus, Airworthiness Office-EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-7262.

Examining the AD Docket

You may examine the AD docket on the Internet at http://www.regulations.gov by searching for and locating Docket No. FAA-2016-7262; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

We issued a notice of proposed rulemaking (NPRM) to amend 14 CFR part 39 to supersede AD 98-13-14, Amendment 39-10602 (63 FR 34556, June 25, 1998) (“AD 98-13-14”). AD 98-13-14 applied to certain Airbus Model A320 series airplanes (Model A320-211, -212, and -231 airplanes). Since we issued AD 98-13-14, an evaluation by the DAH indicates that the former junction of the aft fuselage is subject to fatigue damage.

The NPRM published in the Federal Register on June 21, 2016 (81 FR 40210). The NPRM was prompted by the identification of four cracks in the fastener holes in the area of the former junction at frame (FR) 68 between stringers 4 and 5 (left- and right-hand sides), which occurred during a fatigue test, and a determination that certain compliance times specified in AD 98-13-14 must be reduced. The NPRM proposed to continue to require the actions in AD 98-13-14, with revised inspection compliance times. We are issuing this AD to prevent fatigue cracks from occurring or propagating in certain structures, which could adversely affect the structural integrity of the airplane.

The European Aviation Safety Agency (EASA), which is the Technical Agent for the Member States of the European Union, has issued EASA AD 2015-0084, dated May 13, 2015; corrected May 18, 2015 (referred to after this as the Mandatory Continuing Airworthiness Information, or “the MCAI”); to correct an unsafe condition for certain Airbus Model A320-211, -212, and -231 airplanes. The MCAI states:

During a fatigue test campaign, four cracks were identified in the fastener holes of the former junction at frame (FR) 68 between stringers 4 and 5.

This condition, if not detected and corrected, could lead to crack propagation, possibly resulting in reduced structural integrity of the fuselage.

To address this unsafe condition, DGAC [Direction générale de l'aviation civile] France issued * * * [an AD, which corresponds to FAA AD 98-13-14] to require repetitive inspections and, depending on findings, the accomplishment of an applicable repair solution.

That [DGAC] AD also provided modification of FR 68 [cold working of fastener and tooling holes] in accordance with Airbus Service Bulletin (SB) A320-53-1090 as optional terminating action.

Following new analyses, the thresholds and inspection intervals have been reviewed and adjusted.

For the reason described above, this [EASA] AD retains the requirements of DGAC France AD 96-298-093(B)R2 [http://ad.easa.europa.eu/ad/F-1996-298R2], which is superseded, and requires those actions within the new thresholds and intervals.

This [EASA] AD was republished to correct a typographical error in the Reason.

Repairs include doing applicable related investigative actions (i.e., rotating probe inspection of the hole to make sure the crack is removed and eddy current inspection of the cold expanded holes). You may examine the MCAI in the AD docket on the Internet at http://www.regulations.gov by searching for and locating Docket No. FAA-2016-7262.

Comments

We gave the public the opportunity to participate in developing this AD. The following presents the comment received on the NPRM and the FAA's response to the comment.

Request To Update Service Information

Airbus requested that Airbus Service Bulletin A320-53-1089, Revision 04, dated June 1, 2016, be referred to in the final rule. This service information replaces a certain nondestructive test manual (NTM) task, removes an eddy current inspection for a certain service bulletin task, and updates the service bulletin airplane effectivity.

We agree with the request and have revised paragraphs (h) and (i) of this AD to refer to Airbus Service Bulletin A320-53-1089, Revision 04, dated June 1, 2016. We have also added paragraph (k)(1)(iii) to this AD to provide credit for Airbus Service Bulletin A320-53-1089, Revision 03, dated March 18, 2015.

Additional Changes to the NPRM

We have revised paragraphs (h)(2) and (h)(3) of this AD to remove references to the revision level and date of the service information that must be used for determining the compliance time, because operators might have used other versions for their most recent inspection. The number of affected U.S. registered airplanes has also been changed from 10 to 4. The total cost to operators has been changed accordingly.

Conclusion

We reviewed the available data, including the comment received, and determined that air safety and the public interest require adopting this AD with the changes described previously and minor editorial changes. We have determined that these changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed the following Airbus service information:

• Service Bulletin A320-53-1089, Revision 04, dated June 1, 2016. This service information describes procedures for a special detailed rototest inspection for fatigue cracking of the frame junction holes and the adjacent tooling hole, as applicable, of the right- and left-hand former junctions at FR 68, and repair, including doing applicable related investigative actions.

• Service Bulletin A320-53-1090, Revision 02, dated December 22, 1998. This service information describes procedures for modifying the airplane (cold working of fastener and tooling holes).

This service information is reasonably available because the interested parties have access to it through their normal course of business or by the means identified in the ADDRESSES section.

Costs of Compliance

We estimate that this AD affects 4 airplanes of U.S. registry.

We estimate the following costs to comply with this AD:

Estimated Costs
Action | Labor cost | Parts cost | Cost per product | Cost on U.S. operators
Initial and repetitive inspections [retained from AD 98-13-14] | 8 work-hours × $85 per hour = $680 per inspection cycle | $0 | $680 per inspection cycle | $2,720 per inspection cycle.

We estimate the following costs to do any necessary repairs that will be required based on the results of the inspection. We have no way of determining the number of aircraft that might need these repairs:

On-Condition Costs
Action | Labor cost | Parts cost | Cost per product
Repair | 52 work-hours × $85 per hour = $4,420 | $3,800 | $8,220

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government. For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 98-13-14, Amendment 39-10602 (63 FR 34556, June 25, 1998), and adding the following new AD:

2017-11-13 Airbus: Amendment 39-18912; Docket No. FAA-2016-7262; Directorate Identifier 2015-NM-079-AD.

(a) Effective Date

This AD is effective July 11, 2017.

(b) Affected ADs

This AD replaces AD 98-13-14, Amendment 39-10602 (63 FR 34556, June 25, 1998) (“AD 98-13-14”).

(c) Applicability

This AD applies to Airbus Model A320-211, -212, and -231 airplanes, certificated in any category, manufacturer serial numbers (S/Ns) 0001 through 0123 inclusive, except those that have embodied Airbus Modifications 21780 and 21781 in production.

(d) Subject

Air Transport Association (ATA) of America Code 53, Fuselage.

(e) Reason

This AD was prompted by identification of four cracks in the fastener holes of the former junction at frame (FR) 68 between stringers 4 and 5, which occurred during a fatigue test, and a determination that certain compliance times specified in AD 98-13-14 must be reduced. We are issuing this AD to prevent fatigue cracks from occurring or propagating in certain structures, which could adversely affect the structural integrity of the airplane.

(f) Compliance

Comply with this AD within the compliance times specified, unless already done.

(g) Retained Repetitive Inspections and Repair, With Additional Methods of Approving Repairs

This paragraph restates the requirements of paragraph (a) of AD 98-13-14, with additional methods of approving repairs. For Model A320 series airplanes, as listed in Airbus Service Bulletins A320-53-1089 and A320-53-1090, both dated November 22, 1995: Prior to the accumulation of 20,000 total flight cycles, or within 500 flight cycles after July 30, 1998 (the effective date of AD 98-13-14), whichever occurs later, perform a rotating probe inspection for fatigue cracking of the fastener holes and/or the adjacent tooling hole, as applicable, of the right- and left-hand former junctions at FR 68, in accordance with the Accomplishment Instructions of Airbus Service Bulletin A320-53-1089, dated November 22, 1995. Accomplishing an inspection required by paragraph (h) of this AD terminates the actions required by this paragraph.

(1) If no crack is detected, accomplish either paragraph (g)(1)(i) or (g)(1)(ii) of this AD.

(i) Repeat the inspection thereafter at intervals not to exceed 20,000 flight cycles; or

(ii) Prior to further flight following the accomplishment of the inspection required by paragraph (g) of this AD, cold work the fastener holes and/or the adjacent tooling hole of the right- and left-hand former junctions at FR 68, as applicable, in accordance with the Accomplishment Instructions of Airbus Service Bulletin A320-53-1090, dated November 22, 1995. Accomplishment of this cold working constitutes terminating action for the repetitive inspections required by paragraph (g)(1)(i) of this AD.

(2) If any crack is detected, prior to further flight, repair in accordance with a method approved by the Manager, International Branch, ANM-116, Transport Airplane Directorate, FAA; or the European Aviation Safety Agency (EASA); or Airbus's EASA Design Organization Approval (DOA).

(h) New Repetitive Inspection Requirement

Within the compliance time specified in paragraph (h)(1), (h)(2), or (h)(3) of this AD, whichever occurs latest: Accomplish a special detailed rototest inspection for fatigue cracking of the frame junction holes and the adjacent tooling hole, as applicable, of the right- and left-hand former junctions at FR 68, in accordance with the Accomplishment Instructions of Airbus Service Bulletin A320-53-1089, Revision 04, dated June 1, 2016. Repeat the inspection thereafter at intervals not to exceed 3,800 flight cycles or 7,600 flight hours, whichever occurs first, until a repair required by paragraph (i) of this AD is done or a modification specified in paragraph (j) of this AD is done. Accomplishing an inspection required by this paragraph terminates the inspections required by paragraph (g) of this AD.

(1) Within 28,700 flight cycles or 57,400 flight hours since airplane first flight, whichever occurs first.

(2) Within 3,800 flight cycles or 7,600 flight hours, whichever occurs first, since the most recent inspection done as specified in the Accomplishment Instructions of Airbus Service Bulletin A320-53-1089.

(3) Within 3,800 flight cycles or 7,600 flight hours after the effective date of this AD, whichever occurs first, without exceeding 20,000 flight cycles since the most recent inspection done as specified in the Accomplishment Instructions of Airbus Service Bulletin A320-53-1089.

(i) New Repair Requirement

If any crack is detected during any inspection required by paragraph (h) of this AD: Before further flight, repair, including doing all applicable related investigative actions, in accordance with the Accomplishment Instructions of Airbus Service Bulletin A320-53-1089, Revision 04, dated June 1, 2016. Do all applicable related investigative actions before further flight. Repair of an airplane in accordance with the Accomplishment Instructions of Airbus Service Bulletin A320-53-1089, Revision 04, dated June 1, 2016, constitutes terminating action for the repetitive inspections required by paragraph (h) of this AD.

(j) New Optional Modification

Modification of an airplane, in accordance with the Accomplishment Instructions of Airbus Service Bulletin A320-53-1090, Revision 02, dated December 22, 1998, constitutes terminating action for the repetitive inspections required by paragraphs (g) and (h) of this AD, provided the modification is accomplished before further flight after accomplishing an inspection required by paragraph (h) of this AD and no cracks were detected.

(k) Credit for Previous Actions

(1) This paragraph provides credit for the actions required by paragraphs (h) and (i) of this AD, if those actions were performed before the effective date of this AD using the service information identified in paragraphs (k)(1)(i), (k)(1)(ii), or (k)(1)(iii) of this AD.

(i) Airbus Service Bulletin A320-53-1089, Revision 01, dated June 4, 1998.

(ii) Airbus Service Bulletin A320-53-1089, Revision 02, dated February 3, 2003.

(iii) Airbus Service Bulletin A320-53-1089, Revision 03, dated March 18, 2015.

(2) This paragraph provides credit for the actions required by paragraph (j) of this AD, if those actions were performed before the effective date of this AD using the service information identified in paragraphs (k)(2)(i) or (k)(2)(ii) of this AD.

(i) Airbus Service Bulletin A320-53-1090, dated November 22, 1995, which was incorporated by reference in AD 98-13-14, Amendment 39-10602 (63 FR 34556, June 25, 1998).

(ii) Airbus Service Bulletin A320-53-1090, Revision 1, dated June 10, 1998, which is not incorporated by reference in this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA AD 2015-0084, dated May 13, 2015; corrected May 18, 2015; for related information. This MCAI may be found in the AD docket on the Internet at http://www.regulations.gov by searching for and locating Docket No. FAA-2016-7262.

(2) For more information about this AD, contact Sanjay Ralhan, Aerospace Engineer, International Branch, ANM 116, Transport Airplane Directorate, FAA, 1601 Lind Avenue SW., Renton, WA 98057-3356; telephone 425-227-1405; fax 425-227-1149.

(3) Service information identified in this AD that is not incorporated by reference is available at the addresses specified in paragraphs (n)(5) and (n)(6) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on July 11, 2017.

(i) Airbus Service Bulletin A320-53-1089, Revision 04, dated June 1, 2016.

(ii) Airbus Service Bulletin A320-53-1090, Revision 02, dated December 22, 1998. Pages 1, 2, 7, 8, 9, 10, and 11 of this document are identified as Revision 1, dated June 10, 1998; and pages 3, 4, 5, and 6 of this document are identified as Revision 02, dated December 22, 1998.

(4) The following service information was approved for IBR on July 30, 1998, AD 98-13-14, Amendment 39-10602 (63 FR 34556, June 25, 1998).

(i) Airbus Service Bulletin A320-53-1089, dated November 22, 1995.

(ii) Airbus Service Bulletin A320-53-1090, dated November 22, 1995.

(5) For service information identified in this AD, contact Airbus SAS, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on May 23, 2017.
Michael Kaszycki,
Acting Manager, Transport Airplane Directorate, Aircraft Certification Service.

[FR Doc. 2017-11290 Filed 6-5-17; 8:45 am]

BILLING CODE 4910-13-P